DEPARTMENT OF JUSTICE

Antitrust Division

Notice Pursuant to the National Cooperative Research and Production Act of 1993—National Board for Certification in Occupational Therapy, Inc.

Notice is hereby given that, on April 29, 2005, pursuant to Section 6(a) of the National Cooperative Research and Production Act of 1993, 15 U.S.C. 4301 et seq. (“the Act”), National Board for Certification in Occupational Therapy, Inc. (“NBCOT”) has filed written notifications simultaneously with the Attorney General and the Federal Trade Commission disclosing additions or changes to its standards development activities. The notifications were filed for the purpose of extending the Act's provisions limiting the recovery of antitrust plaintiffs to actual damages under specified circumstances. Specifically, a cut-score study was completed to determine the passing standard (score) for the OTR and COTA certification examinations that are constructed using the test specifications of the Practice Analysis Study.

On September 21, 2004, NBCOT filed its original notification pursuant to Section 6(a) of the Act. The Department of Justice published a notice in the Federal Register pursuant to Section 6(b) of the Act on February 2, 2005 (70 FR 5486).

Dorothy B. Fountain,
Deputy Director of Operations, Antitrust Division.

[FR Doc. 05-11015 Filed 6-2-05; 8:45 am]

BILLING CODE 4410-11-M